DEPARTMENT OF COMMERCE

Foreign-Trade Zones Board

[B-66-2023]

Foreign-Trade Zone 183; Application for Expansion of Subzone 183B; Samsung Austin Semiconductor, LLC; Austin, Texas

An application has been submitted to the Foreign-Trade Zones (FTZ) Board by the Foreign Trade Zone of Central Texas, Inc., grantee of FTZ 183, requesting an expansion of Subzone 183B on behalf of Samsung Austin Semiconductor, LLC, to include a site in Taylor, Texas. The application was submitted pursuant to the provisions of the Foreign-Trade Zones Act, as amended (19 U.S.C. 81a-81u), and the regulations of the FTZ Board (15 CFR part 400). It was formally docketed on December 28, 2023.

The applicant is requesting authority to expand the subzone to include a site (1,260 acres) located on Farm to Market Road 973 in Taylor, close to Highway 79 and County Road 404. No additional authorization for production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is February 12, 2024. Rebuttal comments in response to material submitted during the foregoing period may be submitted during the subsequent 15-day period to February 27, 2024.

A copy of the application will be available for public inspection in the “Online FTZ Information Section” section of the FTZ Board's website, which is accessible via www.trade.gov/ftz.

For further information, contact Camille Evans at Camille.Evans@trade.gov.

Dated: December 28, 2023.
Elizabeth Whiteman,
Executive Secretary.

[FR Doc. 2023-28910 Filed 1-2-24; 8:45 am]

BILLING CODE 3510-DS-P